DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES: Monday, March 27, 2017—1:00 p.m.-5:00 p.m., Tuesday, March 28, 2017—9:00 a.m.-5:00 p.m.

ADDRESSES: Applied Research Center, 301 Gateway Drive, Aiken, SC 29803.

FOR FURTHER INFORMATION CONTACT: Susan Clizbe, Office of External Affairs, Department of Energy, Savannah River Operations Office, P.O. Box A, Aiken, SC, 29802; Phone: (803) 952-8281.

SUPPLEMENTARY INFORMATION:

Purpose of the Board: The purpose of the Board is to make recommendations to DOE-EM and site management in the areas of environmental restoration, waste management, and related activities.

Tentative Agenda

Monday, March 27, 2017

Opening and Agenda Review

Combined Committees Session

Order of committees:

• Facilities Disposition & Site Remediation

• Strategic & Legacy Management

• Nuclear Materials

• Waste Management

• Administrative & Outreach

Public Comments

Adjourn

Tuesday, March 28, 2017

Opening, Minutes Approval, Chair Update, and Agenda Review

Agency Updates

Public Comments

Break

Administrative & Outreach Committee Update

Facilities Disposition & Site Remediation Committee Update

Lunch Break

Strategic & Legacy Management Committee Update

Waste Management Committee Update

Break

Nuclear Materials Committee Update

Board Discussion: Meeting Format

Public Comments

Adjourn

Public Participation: The EM SSAB, Savannah River Site, welcomes the attendance of the public at its advisory committee meetings and will make every effort to accommodate persons with physical disabilities or special needs. If you require special accommodations due to a disability, please contact Susan Clizbe at least seven days in advance of the meeting at the phone number listed above. Written statements may be filed with the Board either before or after the meeting. Individuals who wish to make oral statements pertaining to agenda items should contact Susan Clizbe's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Susan Clizbe at the address or phone number listed above. Minutes will also be available at the following Web site: http://cab.srs.gov/srs-cab.html.

Issued at Washington, DC, on March 2, 2017.
LaTanya R. Butler,
Deputy Committee Management Officer.

[FR Doc. 2017-04519 Filed 3-7-17; 8:45 am]

BILLING CODE 6450-01-P